DEPARTMENT OF DEFENSE

Office of the Secretary

[Docket ID DOD-2016-OS-0041]

Privacy Act of 1974; System of Records

AGENCY: Office of the Secretary of Defense, DoD.

ACTION: Notice to alter a system of records.

SUMMARY: The Office of the Secretary of Defense proposes to alter a system of records, DMDC 04, entitled “Emergency Evacuation Tracking and Repatriation.” Repatriation centers will use this information to track and account for individuals evacuated from emergency situations due to military operations, political situations, natural disasters, or other potentially dangerous circumstances. Repatriation centers assist evacuees in securing requested relocation services, and recording and recovering relocation costs.

DATES: Comments will be accepted on or before May 16, 2016. This proposed action will be effective the day following the end of the comment period unless comments are received which result in a contrary determination.

ADDRESSES: You may submit comments, identified by docket number and title, by any of the following methods:

* Federal Rulemaking Portal: http://www.regulations.gov. Follow the instructions for submitting comments.

* Mail: ODCMO, Directorate for Oversight and Compliance, 4800 Mark Center Drive, Attn: Mailbox 24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on April 1, 2016, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 11, 2016.
Aaron Siegel,
Alternate OSD Federal Register Liaison Officer, Department of Defense.

DMDC 04

System name:

Emergency Evacuation Tracking and Repatriation (April 14, 2009, 74 FR 17173).

Changes:

* * * * *

System name:

Delete entry and replace with “Non-combatant Tracking System (NTS) & Evacuation Tracking and Accountability System (ETAS).”

System location:

Delete entry and replace with “Defense Manpower Data Center, DoD Center Monterey Bay, 400 Gigling Road, Seaside, CA 93955-6771.”

Categories of individuals covered by the system:

Delete entry and replace with “Noncombatant evacuees include service members and their dependents, DoD and other federal civilian employees and their dependents, U.S. Government contractors, U.S. citizens residing abroad or on business or personal travel.”

Categories of records in the system:

Delete entry and replace with “Social Security Number (SSN), Passport Number, U.S. Driver License Number, DoD Teslin Bar Code, or Common Access Card (CAC) Bar Code, Evacuee ID (assigned bracelet), name, date of birth, place of birth, gender, weight, country of citizenship, marital status, sponsor information, country evacuated from, location code (e.g., airport, ship port) (same information is reported for each family member). Also collected are classification number and agency code (an agency code identifying DoD or other U.S. Federal Agency sponsorship), final destination, point of contact name and contact information, emergency contact name and contact information, evacuee minor category (i.e., pregnant woman, unaccompanied child, aged and infirm), pet name, pet type, transportation information and identification of any services requested (e.g., oxygen, wheelchair).”

Authority for maintenance of the system:

Delete entry and replace with “E.O. 12656, Assignment of Emergency Preparedness Responsibilities, as amended; DoD Directive 3025.14, Evacuation of U.S. Citizens and Designated Aliens from Threatened Areas Abroad; and E.O. 9397 (SSN), as amended.”

Purpose(s):

Delete entry and replace with “Repatriation centers will use this information to track and account for individuals evacuated from emergency situations due to military operations, political situations, natural disasters, or other potentially dangerous circumstances. Repatriation centers assist evacuees in securing requested relocation services, and recording and recovering relocation costs.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To individuals who have been evacuated but who have been separated from their family and/or spouse. Information will be released to the individual indicating where the family member was evacuated from and final destination.

To Department of State to plan and monitor evacuation effectiveness and need for services and to verify the number of people by category who have been evacuated.

To the American Red Cross so that upon receipt of information from a repatriation center that a DoD family has arrived safely in the U.S., the Red Cross may notify the service member (sponsor) still in the foreign country that his/her family has safely arrived in the United States.

To the Department of Health and Human Services to facilitate the delivery of personal and financial assistance and to recoup the costs of financial services. To identify individuals who might arrive with an illness which would require quarantine.

To the Internal Revenue Service to recoup unpaid loans made on an emergency basis as a result of emergency evacuation.

To State and local health departments to further implement the quarantine of an ill individual.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Electronic storage media.”

Retrievability:

Delete entry and replace with “Retrieved by ID Number and type, name, and evacuee ID.”

Safeguards:

Delete entry and replace with “Computerized records are maintained in a controlled area accessible only to authorized personnel. At Defense Manpower Data Center (DMDC), entry to these areas is restricted by the use of locks, guards, and administrative procedures such as periodic security audits and regular Monitoring of Users' Security Practices. Access to personal information is limited to those who require the records in the performance of their official duties. Access to personal information is further restricted by the use of passwords which are changed periodically, the Common Access Card (CAC), intrusion detection system (IDS), encryption, and firewalls.”

Retention and disposal:

Delete entry and replace with “Permanent: Cut off (take a snapshot) at end of fiscal year and transfer to the National Archives and Record Administration in accordance with 36 CFR 1228.270 and 36 CFR 1234.”

System manager(s) and address:

Delete entry and replace with “Director, Defense Manpower Data Center, 4800 Mark Center Drive, Alexandria, VA 22350-6000.”

Notification procedure:

Delete entry and replace with “Individuals seeking to determine whether information about themselves is contained in this system should address written inquiries to the Director, Defense Manpower Data Center, 4800 Mark Center Drive, Alexandria, VA 22350-6000.

Signed, written requests should contain the full name, person ID or evacuee ID, date of birth, and current address and telephone number of the individual.”

Record access procedures:

Delete entry and replace with “Individuals seeking access to information about themselves contained in this system should address written inquiries to the Office of the Secretary of Defense/Joint Staff Freedom of Information Act Requester Service Center, 1155 Defense Pentagon, Washington, DC 20301-1155.

Signed, written requests should contain the full name, person ID or evacuee ID, date of birth, and current address and telephone number of the individual.”

* * * * *

Record source categories:

Delete entry and replace with “Individuals via DD form 2585, “Repatriation Processing Center Processing Sheet”, and the repatriation processing centers staff.”

* * * * *

[FR Doc. 2016-08636 Filed 4-14-16; 8:45 am]

BILLING CODE 5001-06-P